DEPARTMENT OF COMMERCE

National Telecommunications and Information Administration

Notice: Request for Nominations, Spectrum Management Advisory Committee

AGENCY: National Telecommunications and Information Administration

ACTION: Notice and Request for Nominations

SUMMARY: Pursuant to an Executive Memorandum, under the Federal Advisory Committee Act and consistent with the National Telecommunications and Information Organization Act, the Secretary of Commerce has established the Spectrum Management Advisory Committee (Committee). The Committee will provide advice to the Assistant Secretary for Communications and Information and Administrator of the National Telecommunications and Information Administration (NTIA) on spectrum management matters. NTIA is requesting nominations for members to the Committee for terms beginning in 2005.

DATES: Nominations must be postmarked or electronically transmitted on or before November 28, 2005.

ADDRESSES: Persons wishing to submit nominations should send the nominee's resume to the attention of Meredith Attwell, Designated Federal Officer, by mail to Office of the Assistant Secretary, National Telecommunications and Information Administration, 1401 Constitution Avenue N.W., Room 4898, Washington, DC 20230; by facsimile transmission to (202) 501-0536; or by electronic mail to spectrumadvisory@ntia.doc.gov.

FOR FURTHER INFORMATION CONTACT: Meredith Attwell at (202) 482-2695 or mattwell@ntia.doc.gov; or Joe Gattuso at (202) 482-0977 or jgattuso@ntia.doc.gov.

SUPPLEMENTARY INFORMATION: On November 29, 2004, the President issued a Memorandum to the Heads of Executive Departments and Agencies on the subject of “Spectrum Management for the 21st Century.”¹ Among other things, the Executive Memorandum directed the heads of the executive departments and agencies to implement the recommendations contained in two Commerce Department reports to the President identifying improvement in U.S. spectrum management.² The first recommendation in Report 2 called for the establishment of a federal advisory committee within the National Telecommunications and Information Administration (NTIA).³

¹ President's Memorandum on Improving Spectrum Management for the 21st Century, 49 Weekly Comp. Pres. Doc. 2875 (Nov. 29, 2004)(Executive Memorandum).

² See Department of Commerce, Spectrum Policy for the 21st Century -- The President's Spectrum Policy Initiative: Report 1, Recommendations of the Federal Government Spectrum Task Force (June 2004); Department of Commerce, Spectrum Policy for the 21st Century -- The President's Spectrum Policy: Report 2, Recommendations from State and Local Governments and Private Sector Responders (June 2004)(Report 2), available at http://www.ntia.doc.gov/reports/specpolini/presspecpolini_report2_06242004.pdf.

³ “The National Telecommunications and Information Administration (NTIA) should establish the Department of Commerce Spectrum Management Advisory Committee, consistent with the Federal Advisory Committee Act [5 U.S.C. App.2] and the NTIA Organization Act [47 U.S.C. § 904(b)].” Report 2 at ii, 14-15.

Pursuant to the Executive Memorandum, the Secretary of Commerce established the Spectrum Management Advisory Committee under the Federal Advisory Committee Act (FACA), 5 U.S.C. App. 2, consistent with the National Telecommunications and Information Administration Act, 47 U.S.C. § 904(b). The Committee will report to the Assistant Secretary for Communications and Information. It will advise the Assistant Secretary on a broad range of issues regarding spectrum policy and on needed reforms to domestic spectrum policies and management to enable timely implementation of evolving spectrum-dependent technologies and services to benefit the public. The Committee will function solely as an advisory body in compliance with the FACA. The Committee's Charter appears on NTIA's website at http://www.ntia.doc.gov.

The Secretary of Commerce intends to appoint representatives from a balanced cross-section of stakeholder interests in spectrum management and policy reform, including non-federal government users, state, regional and local sectors, technology developers, and manufacturers, academia, consumer groups, and service providers with customers in both domestic and international markets. The Department of Commerce seeks high level individuals with broad expertise in and capable of representing those sectors and interests on policy issues relevant to the Committee. Members will be appointed for a two-year term and may be reappointed for additional terms. Members of the Committee will be appointed as Special Government Employees and will serve without compensation.

Nominations should include a resume or curriculum vita, and should also include a statement summarizing the qualifications of the nominee and identifying the sector or interest (if individual) for which the nominee has expertise.

Dated: October 25, 2005.
Kathy D. Smith,
Chief Counsel, National Telecommunications and Information Administration.

[FR Doc. 05-21542 Filed 10-27-05; 8:45 am]

BILLING CODE 3510-60-S